DEPARTMENT OF TRANSPORTATION

Federal Aviation Administration

Notice of Opportunity for Public Comment on Surplus Property Release at Douglas Municipal Airport, Douglas, GA

AGENCY: Federal Aviation Administration (FAA), DOT.

ACTION: Notice.

SUMMARY: Under the provisions of Title 49, U.S.C. Section 47153(c), notice is being given that the FAA is considering a request from the City of Douglas to waive the requirement that approximately .76 acres of surplus property, located at the Douglas Municipal Airport, be used for aeronautical purposes.

DATES: Comments must be received on or before March 26, 2007.

ADDRESSES: Comments on this notice may be mailed or delivered in triplicate to the FAA at the following address: Atlanta Airports District Office, Attn: Chuck Garrison, Program Manager, 1701 Columbia Ave., Suite 2-260, Atlanta, GA 30337-2747.

In addition, one copy of any comments submitted to the FAA must be mailed or delivered to Tony L. Paul, Mayor, City of Douglas at the following address: City of Douglas, Post Office Box 470, Douglas, GA 31534.

FOR FURTHER INFORMATION CONTACT: Chuck Garrison, Program Manager, Atlanta Airports District Office, 1701 Columbia Ave., Suite 2-260, Atlanta, GA 30337-2747, (404) 305-7145. the application may be reviewed in person at this same location.

SUPPLEMENTARY INFORMATION: The FAA is reviewing a request by the City of Douglas to release approximately .76 acres of surplus property at the Douglas Municipal Airport. The property consists of one parcel located adjacent to and west of U.S. Highway #441 right of way, and approximately 1250 feet south of Georgia State Road #353 right of way. This property is currently shown on the approved Airport Layout Plan as aeronautical use land; however the property is currently not being used for aeronautical purposes and the proposed use of this property is compatible with airport operations. The City will ultimately sell the property to the Douglas Coffee County Industrial Authority who will participate in putting a purchase package together to sell both the land owned by the city and the structure owned by an individual, with proceeds of the sale providing funding for future airport development.

Any person may inspect the request in person at the FAA office listed above under FOR FURTHER INFORMATION CONTACT. In addition, any person may, upon request, inspect the request, notice and other documents germane to the request in person at the Douglas Municipal Airport.

Dated: Issued in Atlanta, Georgia on February 5, 2007.
Scott L. Seritt,
Manager, Atlanta Airports District Office, Southern Region.

[FR Doc. 07-807 Filed 2-22-07; 8:45 am]

BILLING CODE 4910-13-M